DEPARTMENT OF THE INTERIOR

National Park Service

[NPS-WASO-NAGPRA-17619; PPWOCRADN0-PCU00RP14.R50000]

Notice of Inventory Completion: U.S. Department of the Interior, National Park Service, Gulf Islands National Seashore, Gulf Breeze, FL

AGENCY: National Park Service, Interior.

ACTION: Notice.

SUMMARY: The U.S. Department of the Interior, National Park Service, Gulf Islands National Seashore has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Gulf Islands National Seashore. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Gulf Islands National Seashore at the address in this notice by May 1, 2015.

ADDRESSES: Daniel R. Brown, Superintendent, Gulf Islands National Seashore, 1801 Gulf Breeze Parkway, Gulf Breeze, FL 32563, telephone (850) 934-2600, email daniel_r_brown@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Gulf Islands National Seashore, Gulf Breeze, FL. The human remains and associated funerary objects were removed from Top of Benchmark 2, Escambia County, FL.

This notice is published as part of the National Park Service's administrative responsibilities under NAGPRA, 25 U.S.C. 3003(d)(3). The determinations in this notice are the sole responsibility of the Superintendent, Gulf Islands National Seashore.

Consultation

A detailed assessment of the human remains was made by Gulf Islands National Seashore professional staff in consultation with representatives of the Alabama-Coushatta Tribe of Texas (previously listed as the Alabama-Coushatta Tribes of Texas); Alabama-Quassarte Tribal Town; Coushatta Tribe of Louisiana; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and Tunica-Biloxi Indian Tribe (hereafter referred to as “The Tribes”).

History and Description of the Remains

At an unknown date, human remains representing, at minimum, three individuals were removed from Top of Benchmark 2 in Escambia County, FL. These remains were donated to Gulf Islands National Seashore at an unknown date by Yulee Lazarus of the Fort Walton Temple Mound Museum. No known individuals were identified. The nine associated funerary objects are three untyped vessel fragments, two Weeden Island Incised vessel fragments, and four Wakulla Check Stamped vessel fragments.

Top of Benchmark 2 is a prehistoric midden site that dates from the Weeden Island to the Pensacola period (400 B.C.-A.D. 1700) and was first reported by William Lazarus and Gordon Simmons in the 1960s. Based on diagnostic ceramics, the Pensacola people were most likely the inhabitants of the area during this time. The Pensacola culture extended along the western Gulf coast of Florida, but also shared ceramic styles with groups in Alabama, Louisiana, and Mississippi. Conflict in the 18th century displaced the Pensacola people in Florida, and historical evidence indicates that some were assimilated into the Choctaw. Others were likely absorbed by the Creek Indians when they overtook the area. Pensacola people are also believed to have gone west with other area tribes to join the Tunica-Biloxi Indians. The Pensacola spoke a Muscogean language; other Muscogee language family speakers include the Alabama, Seminole, Miccosukee, and Coushatta.

Determinations Made By Gulf Islands National Seashore

Officials of Gulf Islands National Seashore have determined that:

• Pursuant to 25 U.S.C. 3001(9), the human remains described in this notice represent the physical remains of three individuals of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian tribe or Native Hawaiian organization not identified in this notice that wish to request transfer of control of these human remains and associated funerary objects should submit a written request with information in support of the request to Daniel R. Brown, Superintendent, Gulf Islands National Seashore, 1801 Gulf Breeze Parkway, Gulf Breeze, FL 32563, telephone (850) 934-2600, email daniel_r_brown@nps.gov, by May 1, 2015. After that date, if no additional requestors have come forward, transfer of control of the human remains and associated funerary objects to The Tribes may proceed.

Gulf Islands National Seashore is responsible for notifying The Tribes that this notice has been published.

Dated: February 17, 2015.
Melanie O'Brien,
Acting Manager, National NAGPRA Program.

[FR Doc. 2015-07416 Filed 3-31-15; 8:45 am]

BILLING CODE 4312-50-P